ENVIRONMENTAL PROTECTION AGENCY

[FRL-7477-8]

Announcement of a Public Stakeholder Meeting on Drinking Water Distribution Systems

AGENCY: Environmental Protection Agency.

ACTION: Notice of a public stakeholder meeting.

SUMMARY: The U.S. Environmental Protection Agency (EPA) has scheduled a public meeting to discuss the finished water quality in distribution systems. The purpose of this meeting is to provide information to stakeholders and the public.

DATES: The stakeholder meeting will be held from 9 a.m. to 4:30 p.m. eastern time on Friday, May 16, 2003.

ADDRESSES: The meeting will be held at the Hyatt Regency Washington Hotel—On Capitol Hill, at 400 New Jersey Avenue, NW., Washington DC, phone (202) 737-1234.

FOR FURTHER INFORMATION CONTACT: For technical inquiries contact: Mr. Kenneth Rotert, (202) 564-5280, e-mail: rotert.kenneth@epa.gov. For registration and general information about this meeting, please contact Ms. Druann O'Connor at Economic and Engineering Services, Inc., 10900 NE 4th Street, Suite 1110, Bellevue, WA 98004; by phone: (425) 452-8100; by fax: (425) 454-4189, or e-mail at doconnor@ees-1.com.

SUPPLEMENTARY INFORMATION: The meeting will provide stakeholders with a summary of available data, information, and research on the potential public health impacts of drinking water distribution systems.

Those registered by May 2, 2003, will receive background materials prior to the meeting. Additional information on these and other EPA activities under SDWA is available at the Safe Drinking Water Hotline at (800) 426-4791.

Meeting materials are available at http://www.epa.gov/safewater/tcr/tcr.html.

Any person needing special accommodations at this meeting, including wheelchair access, should contact the same previously-noted point of contact at Economic and Engineering Services, Inc., at least five business days before the meeting so that the appropriate arrangements can be made.

Same day registration for this meeting will be from 8:30 a.m. to 9 a.m. eastern time.

Dated: April 2, 2003.
Cynthia C. Dougherty,
Director, Office of Ground Water and Drinking Water.

[FR Doc. 03-8537 Filed 4-7-03; 8:45 am]

BILLING CODE 6560-50-P